DEPARTMENT OF TRANSPORTATION

Surface Transportation Board

[Docket No. AB 33 (Sub-No. 257X); Docket No. AB 986 (Sub-No. 1X)]

Union Pacific Railroad Company—Abandonment and Discontinuance of Trackage Rights Exemptions—in Benton County, OR; Willamette & Pacific Railroad, Inc.—Discontinuance of Service and Discontinuance of Trackage Rights Exemptions—in Benton County, OR

On May 23, 2011, Willamette & Pacific Railroad, Inc. (WPRR), and Union Pacific Railroad Company (UP) jointly filed with the Surface Transportation Board (Board) a petition under 49 U.S.C. 10502 for exemption from the provisions of 49 U.S.C. 10903 for WPRR to discontinue service over, and for UP to abandon, 17.86 miles of rail line in Benton County, OR.¹ The rail line is described as follows: (1) From milepost 682.25 near Greenberry to milepost 671.58 near Monroe on the Bailey Branch; and (2) from milepost 673.21 near Alpine Junction to milepost 680.06 near Dawson on the Hull Oakes Lead (together, the Line). The Line traverses United States Postal Service Zip Codes 97333 and 97456, and includes the tariff stations of Greenberry (milepost 681.3), Alpine Junction (milepost 673.0), Monroe (milepost 671.7), and Dawson (milepost 679.9). In addition, WPRR and UP seek to discontinue their respective reserved limited overhead trackage rights over Albany & Eastern Railroad Company's line between milepost 687.6 south of Corvallis and milepost 682.25 near Greenberry, a distance of 5.35 miles.²

¹ Petitioners state that the mileage of the proposed abandonment and discontinuance has been updated since the combined environmental and historic report was filed on March 29, 2011. Petitioners state that further review of UP's engineering documents indicate that, although the milepost where the Hull Oakes Lead connects to the Bailey Branch at Alpine Junction is correct, there is an adjustment that needs to be made making the line 0.34 miles longer than indicated by the mileposts. The legend on the map indicates an increase in the mileage of the Hull Oakes Lead from 6.85 to 7.19 miles.

² Petitioners state that the trackage rights were reserved so that UP and WPRR could reach the Line pending receipt of abandonment and discontinuance authority. See Albany & E. R.R. Co.—Acquis. & Operation Exemption—Union Pac. R.R. Co. & Willamette & Pac. R.R., Inc., FD 35355 (STB served Mar. 10, 2010).

Petitioners state that, based on information in UP's possession as the owner of the Line, the Line does not contain Federally granted rights-of-way. Any documentation in UP's possession will be made available to those requesting it.

The interest of railroad employees will be protected by the conditions set forth in ORegon Short Line Railroad—Abandonment Portion Goshen Branch Between Firth & Ammon, In Bingham & Bonneville Counties, Idaho, 360 I.C.C. 91 (1979).

By issuing this notice, the Board is instituting an exemption proceeding pursuant to 49 U.S.C. 10502(b). A final decision will be issued by September 9, 2011.

Any offer of financial assistance (OFA) under 49 CFR 1152.27(b)(2) will be due no later than 10 days after service of a decision granting the petition for exemption. Each OFA must be accompanied by a $1,500 filing fee. See 49 CFR 1002.2(f)(25).

All interested persons should be aware that, following abandonment of rail service and salvage of the Line, the Line may be suitable for other public use, including interim trail use. Any request for a public use condition under 49 CFR 1152.28 or for interim trail use/rail banking under 49 CFR 1152.29 will be due no later than June 30, 2011. Each trail use request must be accompanied by a $250 filing fee. See 49 CFR 1002.2(f)(27).

All filings in response to this notice must refer to Docket Nos. AB 986 (Sub-No. 1X) and AB 33 (Sub-No. 257X), and must be sent to: (1) Surface Transportation Board, 395 E Street, SW., Washington, DC 20423-0001; (2) for WPRR — Eric M. Hocky, Thorp Reed & Armstrong, LLP, One Commerce Square, 2005 Market Street, Suite 1000, Philadelphia, PA 19103; and (3) for UP — Mack H. Shumate, Jr., 101 North Wacker Drive, #1920, Chicago, IL 60606. Replies to the petition are due on or before June 30, 2011.

Persons seeking further information concerning abandonment procedures may contact the Board's Office of Public Assistance, Governmental Affairs, and Compliance at (202) 245-0238 or refer to the full abandonment or discontinuance regulations at 49 CFR part 1152. Questions concerning environmental issues may be directed to the Board's Office of Environmental Analysis (OEA) at (202) 245-0305. [Assistance for the hearing impaired is available through the Federal Information Relay Service (FIRS) at 1-800-877-8339.]

An environmental assessment (EA) (or environmental impact statement (EIS), if necessary) prepared by OEA will be served upon all parties of record and upon any agencies or other persons who commented during its preparation. Other interested persons may contact OEA to obtain a copy of the EA (or EIS). EAs in these abandonment proceedings normally will be made available within 60 days of the filing of the petition. The deadline for submission of comments on the EA generally will be within 30 days of its service.

Board decisions and notices are available on our Web site at http://www.stb.dot.gov.

Decided: June 7, 2011.
By the Board, Rachel D. Campbell, Director, Office of Proceedings.
Andrea Pope-Matheson,
Clearance Clerk.

[FR Doc. 2011-14404 Filed 6-9-11; 8:45 am]

BILLING CODE 4915-01-P